DEPARTMENT OF THE INTERIOR

National Park Service

[NPS-WASO-NAGPRA-NPS0039471; PPWOCRADN0-PCU00RP14.R50000]

Notice of Intended Disposition: U.S. Department of Agriculture, Forest Service, Los Padres National Forest, Solvang, CA

AGENCY: National Park Service, Interior.

ACTION: Notice.

SUMMARY: In accordance with the Native American Graves Protection and Repatriation Act (NAGPRA), the U.S. Department of Agriculture, Forest Service, Los Padres National Forest intends to carry out the disposition of human remains removed from Federal or Tribal lands to the lineal descendants, Indian Tribe, or Native Hawaiian organization with priority for disposition in this notice.

DATES: Disposition of the human remains in this notice may occur on or after April 17, 2025. If no claim for disposition is received by March 18, 2026, the human remains in this notice will become unclaimed human remains.

ADDRESSES: Esther Morgan, Los Padres National Forest, 1980 Old Mission Drive, Solvang, CA 93463, telephone (805) 697-6406, email esther.morgan@usda.gov.

SUPPLEMENTARY INFORMATION: This notice is published as part of the National Park Service's administrative responsibilities under NAGPRA. The determinations in this notice are the sole responsibility of the Los Padres National Forest, and additional information on the human remains or cultural items in this notice, including the results of consultation, can be found in the related records. The National Park Service is not responsible for the identifications in this notice.

Abstract of Information Available

Based on the information available, human remains representing, at least, one individual has been reasonably identified. No associated funerary objects are present. In late September 2021, a human remain laying on the surface of the ground was found by hikers near Arroyo Seco Road in Monterey County, California on National Forest System lands. The discovery was treated as a possible crime scene and the skull was delivered to the Monterey County Coroner. Monterey County Search and Rescue conducted a thorough search of the area and did not find any additional human remains or associated objects. Due to the age of the human remain it was determined to not be a crime scene and it was released to the Forest Service in July of 2022.

Determinations

The Los Padres National Forest has determined that:

• The human remains described in this notice represent the physical remains of one individual of Native American ancestry.

• The Santa Ynez Band of Chumash Mission Indians of the Santa Ynez Reservation, California has priority for disposition of the human remains described in this notice.

Claims for Disposition

Written claims for disposition of the human remains in this notice must be sent to the appropriate official identified in this notice under ADDRESSES. If no claim for disposition is received by March 18, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after April 17, 2025. If competing claims for disposition are received, the Los Padres National Forest must determine the most appropriate claimant prior to disposition. Requests for joint disposition of the human remains are considered a single request and not competing requests. The Los Padres National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04360 Filed 3-17-25; 8:45 am]

BILLING CODE 4312-52-P